DEPARTMENT OF ENERGY

Federal Energy Regulatory Commission

[Docket No. RP01-259-002]

ANR Pipeline Company; Notice of Proposed Changes in FERC Gas Tariff

January 2, 2002.

Take notice that on December 26, 2001, ANR Pipeline Company (ANR) tendered for filing as part of its FERC Gas Tariff, Second Revised Volume No. 1, Sixteenth Revised Sheet No. 19, proposed to be effective January 1, 2002.

ANR states that the above-referenced tariff sheet is being filed to implement the Joint Offer of Settlement And Explanatory Statement and corresponding Stipulation and Agreement (Offer of Settlement) being filed simultaneously with this filing. As discussed in the Offer of Settlement, ANR has agreed to adjust the currently approved fuel matrix methodology for determining ANR's fuel use and lost-and-unaccounted-for retention percentages under its currently effective tariff mechanism. ANR has agreed to implement this revised methodology as to the current annual fuel matrix redetermination at issue in this proceeding, on an interim basis effective January 1, 2002, until ANR submits its next annual redetermination filing under its tariff to be effective April 1, 2002.

ANR states that, in general, the change in methodology results in fuel rate decreases only, but in any event, ANR is not proposing to put into effect any increases that result from the new methodology for the interim period January 1, 2002 through March 31, 2002.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-347 Filed 1-7-02; 8:45 am]

BILLING CODE 6717-01-P